DEPARTMENT OF STATE

Bureau of Consular Affairs

22 CFR Parts 41 and 42

[Public Notice 3283]

Visas: Documentation of Immigrants and Nonimmigrants Under the Immigration and Nationality Act, as Amended

AGENCY: Bureau of Consular Affairs, DOS.

ACTION: Final rule.

SUMMARY: The enactment of legislation over the past few years has created new immigrant and nonimmigrant visa categories. Additionally, some visa classification symbols are removed due to the expiration of certain immigrant visa programs. This rule amends both the immigrant and nonimmigrant classification tables.

EFFECTIVE DATE: This rule takes effect on April 19, 2000.

ADDRESSES: Chief, Legislation and Regulation Division, Visa Office, Washington, DC 20522-1013.

FOR FURTHER INFORMATION CONTACT: H. Edward Odom, Chief, Legislation and Regulations Division, 202-663-1204.

SUPPLEMENTARY INFORMATION:

How Is the Nonimmigrant Visa Table Affected?

The rule amends the nonimmigrant visa classification table at 22 CFR 41.12 by removing the classification H-1A and by adding a new classification H-1C. This rule implements sec. 2 of Public Law 106-95. The law adds a new class of nonimmigrants for nurses coming to areas where there is a health professional shortage. These nurses have been given the classification symbol H-1C. The same law repeals INA 101(a)(15)(H)(i) relating to former registered nurses classified as H-1A. This rule, therefore, removes the H-1A category and adds the H-1C category to the nonimmigrant table.

The Department is also taking this opportunity to correct a typographical error for the NATO-2 entry.

How Is the Immigrant Visa Classification Table Affected?

This rule amends the immigrant visa classification table at 22 CFR 42.11 by including NATO employees and their spouses and children in the special immigrant categories SK1, SK3 and SK4. The rule implements section 421(a) of Public Law 105-277 which added NATO employees and their spouse and unmarried children to the special immigrant category under INA 101(a)(27)(L).

This rule removes the ES1 category established by sec. 4 of Public Law 102-509, which provided for the issuance of visas for no more than 750 scientists of exceptional ability from the independent states and the Baltics over a four-year period commencing October 24, 1992. These scientists were given the classification symbol ES1. The program terminated on October 23, 1996.

Final Rule

Administrative Procedure Act

The Department is publishing this rule as a final rule pursuant to 5 U.S.C. 553(a)(2) and the “good cause” provisions of 5 U.S.C. 553(b)(B); notice and comment are not necessary in light of the fact that this rule relates to agency management and merely establishes or removes visa symbols used internally by the Department. The rule makes no substantive regulatory changes.

Regulatory Flexibility Act

The Department of State, in accordance with the Regulatory Flexibility Act (5 U.S.C. 605(b)), has reviewed this regulation and, by approving it, certifies that this rule will not have a significant economic impact on a substantial number of small entities.

Unfunded Mandates Reform Act of 1995

This rule will not result in the expenditure by State, local and tribal governments, in the aggregate, or by the private sector, of $100 million or more in any year and it will not significantly or uniquely affect small governments. Therefore, no actions were deemed necessary under the provisions of the Unfunded Mandates Reform Act of 1995.

Small Business Regulatory Enforcement Fairness Act of 1996

This rule is not a major rule as defined by section 804 of the Small Business Regulatory Enforcement Act of 1996. This rule will not result in an annual effect on the economy of $100 million or more; a major increase in costs or prices; or significant adverse effects on competition, employment, investment, productivity, innovation, or on the ability of United States-based companies to compete with foreign-based companies in domestic and export markets.

Executive Order 12866

The Department of State does not consider this rule, to be a “significant regulatory action” under Executive Order 12866, section 3(f), Regulatory Planning and Review, and the Office of Management and Budget has waived its review process under section 6(a)(3)(A).

Executive Order 13132

This regulation will not have substantial direct effects on the States, on the relationship between the national government and the States, or on the distribution of power and responsibilities among the various levels of government. Therefore, in accordance with section 6 of Executive Order 13132, it is determined that this rule does not have sufficient federalism implications to require consultations or warrant the preparation of a federalism summary impact statement.

Paperwork Reduction Act

This rule does not impose any new reporting or record-keeping requirements subject to the Paperwork Reduction Act, 44 U.S.C. Chapter 35.

List of Subjects

22 CFR Part 41

Aliens, Passports and visas.

22 CFR Part 42

Immigration, Passports and visas.

Accordingly, the Department of State amends 22 CFR Chapter I as set forth below.

PART 41—[AMENDED]

1. The authority citation for part 41 continues to read as follows:

Authority: 8 U.S.C. 1104; Pub. L. 105-277, 112 Stat. 2681 et seq.

2. Amend the table in § 41.12 as follows:

a. Remove the entry for H-1A;

b. Add a new entry for H-1C, in alpha-numeric order; and

c. Amend the NATO-2 entry in the second column by adding “or Immediate Family” following the words “Such a Force”.

The addition reads as follows:

§ 41.12 Classification symbols.

* * * * *

Nonimmigrants
Symbol | Class | Section of law
* * * * * * *
H-1C | Nurses in health professional shortage areas | 101(a)(15)(H)(i)(c).
* * * * * * *

PART 42—[AMENDED]

3. The authority citation for part 42 continues to read as follows:

Authority: 8 U.S.C. 1104.

4. Amend the table in § 42.11 as follows:

a. Remove the entry for ES1 from the section entitled “Employment 2nd Preference * * *”; and

b. Revise the entries for SK1, SK-2, SK3 and SK4 in the section entitled “Employment 4th Preference * * *.”.

The revisions read as follows:

§ 42.11 Classification symbols.

* * * * *

Immigrants
Symbol | Class | Section of law
* * * * * * *
Employment 4th Preference (Certain Special Immigrants)
SK1 | Certain Retired International Organization or NATO employees | 101(a)(27)(I)(iii) & 101(a)(27)(L).
SK2 | Spouse of SK1 | 101(a)(27)(I)(iv) & 101(a)(27)(L).
SK3 | Certain Unmarried Sons or Daughters of an International Organization or NATO Employee | 101(a)(27)(I)(i) & 101(a)(27)(L).
SK4 | Certain Surviving Spouses of Deceased International Organization or NATO Employee | 101(a)(27)(I)(ii) & 101(a)(27)(L).
* * * * * * *

Dated: March 6, 2000.
Mary A. Ryan,
Assistant Secretary of State for Consular Affairs, U.S. Department of State.

[FR Doc. 00-9104 Filed 4-18-00; 8:45 am]

BILLING CODE 4710-06-P